DEPARTMENT OF ENERGY

Federal Energy Regulatory Commission

[Docket No. ER02-2001-015; Docket No. ER00-167-000; Docket No. ER03-752-000]

Electric Quarterly Reports; Strategic Energy Management Corp.; Solaro Energy Marketing Corporation; Notice of Revocation of Market-Based Rate Tariff

July 23, 2010.

On June 25, 2010, the Commission issued an order announcing its intent to revoke the market-based rate authority of the above captioned public utilities, which had failed to file their required Electric Quarterly Reports.¹ The Commission provided the utilities fifteen days in which to file their overdue Electric Quarterly Reports or face revocation of their market-based rate tariffs.

¹ Electric Quarterly Reports, 131 FERC ¶ 61,272 (2010) (June 25 Order).

In Order No. 2001, the Commission revised its public utility filing requirements and established a requirement for public utilities, including power marketers, to file Electric Quarterly Reports summarizing the contractual terms and conditions in their agreements for all jurisdictional services (including market-based power sales, cost-based power sales, and transmission service) and providing transaction information (including rates) for short-term and long-term power sales during the most recent calendar quarter.²

² Revised Public Utility Filing Requirements, Order No. 2001, 67 Fed. Reg. 31,043, FERC Stats. & Regs. ¶ 31,127, reh'g denied, Order No. 2001-A, 100 FERC ¶ 61,074, reconsideration and clarification denied, Order No. 2001-B, 100 FERC ¶ 61,342, order directing filings, Order No. 2001-C, 101 FERC ¶ 61,314 (2002), order directing filing, Order No. 2001-D, 102 FERC ¶ 61,334 (2003).

In the June 25 Order, the Commission directed Strategic Energy Management Corp. and Solaro Energy Marketing Corporation to file the required Electric Quarterly Reports within 15 days of the date of issuance of the order or face revocation of their authority to sell power at market-based rates and termination of their electric market-based rate tariffs.³

³ June 25 Order at Ordering Paragraph A.

The time period for compliance with the June 25 Order has elapsed. The two companies identified in the June 25 Order (Strategic Energy Management Corp. and Solaro Energy Marketing Corporation) have failed to file their delinquent Electric Quarterly Reports.

The Commission hereby revokes the market-based rate authority and terminates the electric market-based rate tariffs of the above-captioned public utilities.

Kimberly D. Bose,
Secretary.

[FR Doc. 2010-18840 Filed 7-30-10; 8:45 am]

BILLING CODE 6717-01-P